DEPARTMENT OF ENERGY

Federal Energy Regulatory Commission

Combined Notice of Filings

Take notice that the Commission has received the following Natural Gas Pipeline Rate and Refund Report filings:

Filings Instituting Proceedings

Docket Numbers: RP16-912-000.

Applicants: Rockies Express Pipeline LLC.

Description: § 4(d) Rate Filing: Neg Rate 2015-05-02 Encana 2 Ks to be effective 5/1/2016.

Filed Date: 5/2/16.

Accession Number: 20160502-5030.

Comments Due: 5 p.m. ET 5/16/16.

Docket Numbers: RP16-914-000.

Applicants: Northern Border Pipeline Company.

Description: Northern Border Pipeline Company's Operational Purchases and Sales of Gas Report under RP16-914.

Filed Date: 4/29/16.

Accession Number: 20160429-5531.

Comments Due: 5 p.m. ET 5/11/16.

Docket Numbers: RP16-915-000.

Applicants: Gulf South Pipeline Company, LP.

Description: § 4(d) Rate Filing: Cap Rel Neg Rate Agmts (PH 41455 to Texla 46343) to be effective 5/1/2016.

Filed Date: 5/2/16.

Accession Number: 20160502-5108.

Comments Due: 5 p.m. ET 5/16/16.

Docket Numbers: RP16-916-000.

Applicants: Gulf South Pipeline Company, LP.

Description: § 4(d) Rate Filing: Cap Rel Neg Rate Agmts (Atlanta 8438 to various eff 5-1-16) to be effective 5/1/2016.

Filed Date: 5/2/16.

Accession Number: 20160502-5109.

Comments Due: 5 p.m. ET 5/16/16.

Docket Numbers: RP16-917-000.

Applicants: Gulf South Pipeline Company, LP.

Description: § 4(d) Rate Filing: Cap Rel Neg Rate Agmts (Encana 37663 to BP 46375) to be effective 5/1/2016.

Filed Date: 5/2/16.

Accession Number: 20160502-5110.

Comments Due: 5 p.m. ET 5/16/16.

Docket Numbers: RP16-918-000.

Applicants: Iroquois Gas Transmission System, L.P.

Description: § 4(d) Rate Filing: 05/02/16. Negotiated Rates—Conoco Phillips Company (RTS) 3015-05 to be effective 5/1/2016.

Filed Date: 5/2/16.

Accession Number: 20160502-5134.

Comments Due: 5 p.m. ET 5/16/16.

Docket Numbers: RP16-919-000.

Applicants: Equitrans, L.P.

Description: Compliance filing Notice Regarding Non-Jurisdictional Gathering Facilities (M-63).

Filed Date: 5/2/16.

Accession Number: 20160502-5197.

Comments Due: 5 p.m. ET 5/16/16.

Docket Numbers: RP16-920-000.

Applicants: Great Lakes Gas Transmission Limited Par.

Description: Great Lakes Gas Transmission's Operational Purchases and Sales of Gas Report.

Filed Date: 4/29/16.

Accession Number: 20160429-5551.

Comments Due: 5 p.m. ET 5/11/16.

Docket Numbers: RP16-921-000.

Applicants: ANR Storage Company.

Description: ANR Storage Company's Operational Purchases and Sales Report.

Filed Date: 4/29/16.

Accession Number: 20160429-5552.

Comments Due: 5 p.m. ET 5/11/16.

Docket Numbers: RP16-922-000.

Applicants: Bison Pipeline LLC.

Description: Bison Pipeline LLC.'s Operational Purchases and Sales Report.

Filed Date: 4/29/16.

Accession Number: 20160429-5554.

Comments Due: 5 p.m. ET 5/11/16.

Docket Numbers: RP16-923-000.

Applicants: Blue Lake Gas Storage Company.

Description: Blue Lake Gas Storage Company Operational Purchases and Sales of Gas Report.

Filed Date: 4/29/16.

Accession Number: 20160429-5555.

Comments Due: 5 p.m. ET 5/11/16.

Docket Numbers: RP16-924-000.

Applicants: ANR Pipeline Company.

Description: ANR Pipeline Company's Operational Purchases and Sales Report.

Filed Date: 4/29/16.

Accession Number: 20160429-5559.

Comments Due: 5 p.m. ET 5/11/16.

Docket Numbers: RP16-925-000.

Applicants: Rockies Express Pipeline LLC.

Description: § 4(d) Rate Filing: Neg Rate 2016-05-02 Perm Partial CR ARM to be effective 5/1/2016.

Filed Date: 5/2/16.

Accession Number: 20160502-5305.

Comments Due: 5 p.m. ET 5/16/16.

Docket Numbers: RP16-926-000.

Applicants: Dominion Transmission, Inc.

Description: § 4(d) Rate Filing: DTI—May 2, 2016 Nonconforming Service Agreement to be effective 6/1/2016.

Filed Date: 5/2/16.

Accession Number: 20160502-5344.

Comments Due: 5 p.m. ET 5/16/16.

Docket Numbers: RP16-927-000.

Applicants: Equitrans, L.P.

Description: § 4(d) Rate Filing: Negotiated Capacity Release Agreements—5/01/2016 to be effective 5/1/2016.

Filed Date: 5/2/16.

Accession Number: 20160502-5350.

Comments Due: 5 p.m. ET 5/16/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2016.
Nathaniel J. Davis, Sr.,
Deputy Secretary.

[FR Doc. 2016-10871 Filed 5-9-16; 8:45 am]

BILLING CODE 6717-01-P